FEDERAL COMMUNICATIONS COMMISSION

47 CFR Part 73

[DA 00-2711, MM Docket No. 99-58; RM-9461 RM-9611]

Radio Broadcasting Services; Strattanville and Farmington Township, PA

AGENCY: Federal Communications Commission.

ACTION: Final rule.

SUMMARY: The Commission, at the request of West Wind Broadcasting, allots Channel 267A at Strattanville, Pennsylvania, as the community's first local aural transmission service (RM-9461). See 64 FR 8782, February 23, 1999. At the request of Clarion County Broadcasting, Inc., we also allot Channel 291A at Farmington Township, Pennsylvania, as the community's first local aural transmission service (RM-9611). Channel 267A can be allotted at Strattanville in compliance with the Commission's minimum distance separation requirements with a site restriction of 15.1 kilometers (9.4 miles) northeast to avoid a short-spacing to the licensed site of Station WORD-FM, Channel 268B, Pittsburgh, Pennsylvania. The coordinates for Channel 267A at Strattanville are 41-18-36 North Latitude and 79-13-05 West Longitude. See Supplementary Information, infra.

DATES: Effective January 15, 2001. A filing window , will not be opened at this time. Instead, the issue of opening filing windows for these channels will be addressed by the Commission in a subsequent order.

FOR FURTHER INFORMATION CONTACT: Sharon P. McDonald, Mass Media Bureau, (202) 418-2180.

SUPPLEMENTARY INFORMATION: This is a synopsis of the Commission's Report and Order, MM Docket No. 99-58, adopted November 22, 2000, and released December 1, 2000. The full text of this Commission decision is available for inspection and copying during normal business hours in the FCC Reference Information Center (Room CY-A257), 445 12th Street, SW., Washington, DC. The complete text of this decision may also be purchased from the Commission's copy contractors, International Transcription Service, Inc., (202) 857-3800, 1231 20th Street, NW., Washington, DC 20036.

Additionally, Channel 291A can be allotted to Farmington Township in compliance with the Commission's minimum distance separation requirements with a site restriction of 15.1 kilometers (9.4 miles) to avoid a short-spacing to the construction permit site of Station WMKX(FM), Channel 388B1, Brookville, Pennsylvania, and the licensed and construction permit sites of Station WCTL(FM), Channel 292A Union City, Pennsylvania. The coordinates for Channel 291A at Farmington Township are 41-30-54 North Latitude and 79-18-13 West Longitude. Since Strattanville is located within 320 kilometers (200) miles of the U.S.-Canadian border, Canadian concurrence for the allotment of Channel 267A at Strattanville has been obtained. However, concurrence for the allotment of Channel 292A at Farmington Township has been requested, but not yet received. Therefore, if a construction permit is granted to Farmington Township prior to the receipt of formal concurrence in the allotment by the Canadian government, the construction permit will include the following condition: “Operation with the facilities specified herein is subject to modification, suspension or termination without right to a hearing, if found by the Commission to be necessary in order to conform to the USA-Canadian FM Broadcast Agreement.”

List of Subjects in 47 CFR Part 73

Radio broadcasting.

Part 73 of title 47 of the Code of Federal Regulations is amended as follows:

PART 73—RADIO BROADCAST SERVICES

1. The authority citation for part 73 continues to read as follows:

Authority: 47 U.S.C. 54, 303, 334, 336.

§ 73.202 [Amended]

2. Section 73.202(b), the Table of FM Allotments under Pennsylvania, is amended by adding Strattanville, Channel 267A; and by adding Farmington Township, Channel 291A.

Federal Communications Commission.
John A. Karousos,
Chief, Allocations Branch, Policy and Rules Division, Mass Media Bureau.

[FR Doc. 00-31399 Filed 12-8-00; 8:45 am]

BILLING CODE 6712-01-P